DEPARTMENT OF COMMERCE

Foreign-Trade Zones Board

[B-22-2021]

Foreign-Trade Zone (FTZ) 123—Denver, Colorado, Authorization of Production Activity, Lockheed Martin Corporation, Lockheed Martin Space (Satellites and Other Spacecraft), Littleton, Colorado

On March 17, 2021, Lockheed Martin Corporation, Lockheed Martin Space submitted a notification of proposed production activity to the FTZ Board for its facility within Subzone 123G, in Littleton, Colorado.

The notification was processed in accordance with the regulations of the FTZ Board (15 CFR part 400), including notice in the Federal Register inviting public comment (86 FR 15642, March 24, 2021). On July 15, 2021, the applicant was notified of the FTZ Board's decision that no further review of the activity is warranted at this time. The production activity described in the notification was authorized, subject to the FTZ Act and the FTZ Board's regulations, including Section 400.14.

Dated: July 15, 2021.
Elizabeth Whiteman,
Acting Executive Secretary.

[FR Doc. 2021-15417 Filed 7-19-21; 8:45 am]

BILLING CODE 3510-DS-P